DEPARTMENT OF THE INTERIOR

Bureau of Land Management

[CO-140-1610-DT-009C]

Notice To Reopen the Public Comment Period Regarding Supplemental Information for Proposed Areas of Critical Environmental Concern (ACEC) With Associated Resource Use Limitations Identified in the Proposed Roan Plateau Resource Management Plan Amendment/Final Environmental Impact Statement (PRMPA/FEIS) for Public Lands in Garfield and Rio Blanco Counties, CO

AGENCY: Bureau of Land Management, Interior.

ACTION: Notice to reopen the public comment period for 14 days following the publication of this notice in the Federal Register for four potential ACEC designations identified in the PRMPA/FEIS.

SUMMARY: The public comment period is being reopened to allow the public to submit comments on the proposed ACECs in the PRMPA/FEIS in an electronic format as well as in writing.

DATES: The public comment period is being reopened for 14 days following the publication of this notice in the Federal Register. Submissions may be made electronically on the Colorado BLM Web site at http://www.blm.gov/rmp/co/roanplateau/comments.htm, or in writing to the address listed below. Instructions on how to submit electronic comments are posted on the Web site.

ADDRESSES: Submit any written comments to Jamie Connell—Glenwood Springs Field Manager, Bureau of Land Management, 50629 Highways 6 and 24, Glenwood Springs, CO 81601.

Comments (written or electronic) submitted during the ACEC review process, including names and street addresses of respondents will be available for public review at the Glenwood Springs Field Office during regular business hours 7:45 a.m. to 4:30 p.m., Monday through Friday, except holidays, and will be subject to disclosure under the Freedom of Information Act. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Jamie Connell, Field Manager, Bureau of Land Management Glenwood Springs Field Office, 50629 Highways 6 & 24, Glenwood Springs, CO 81601, or by telephone at (970) 947-2800; or Greg Goodenow at 303-239-3789.

SUPPLEMENTARY INFORMATION: Notice to invite comment on the proposed ACECs was originally published in the Federal Register on June 11, 2007 (72 FR 32138). Information concerning the proposed ACECs, as well as the entire Proposed Roan Plateau RMPA/FEIS may be found on the Colorado BLM Web site at http://www.blm.gov/rmp/co/roanplateau.

Dated: August 13, 2007.
Sally Wisely,
State Director, Colorado.

[FR Doc. E7-16308 Filed 8-16-07; 8:45 am]

BILLING CODE 4310-JB-P